FEDERAL COMMUNICATIONS COMMISSION

Public Information Collections Approved by Office of Management and Budget

April 26, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Jennifer Mock, Federal Communications Commission, 445 12th Street, SW., Washington, DC 20554, (202) 418-7234 or via the Internet at Jennifer.Mock@fcc.gov.

SUPPLEMENTARY INFORMATION: OMB Control No.: 3060-1090.

OMB Approval Date: 4/26/2006.

OMB Expiration Date: 4/30/2009.

Title: Order and Implementing Public Notices Requiring BRS Channels 1 and/or 2/2A Licensees to File Data on the Construction Status and/or Operational Parameters of Each System.

Form No.: N/A.

Estimated Annual Burden: 150 respondents; 131 annual burden hours; .50-1.25 hours per respondent.

Needs and Uses: The Commission has received OMB approval for a collection contained in an Order (FCC 05-172) which requires licensees of Broadband Radio Services (BRS) Channels 1 and 2/2A to file information on the construction status and/or operation parameters of each system. The Commission is seeking information on non-subscriber locations and operating characteristics of BRS receivers and other system characteristics of BRS incumbents (including operations by lessees) not currently collected on FCC Form 601 for this service.

This one-time collection is necessary because BRS Channels 1 and/or 2/2A are currently licensed at 2150-2150/62 MHz, which the Commission has designated for Advanced Wireless Services (AWS). The Commission also has announced that it intends to auction AWS licenses for 2150-2155 MHz, among other bands, starting in June 2006. Future AWS licensees will be obligated to relocate incumbent BRS operations in the 2150-2160/62 MHz band to comparable facilities, most likely within the newly restructured 2.5 GHz band.

In the Order, the Commission concluded that reliable, public data on each incumbent BRS system that will be subject to relocation is essential in advance of this planned spectrum auction and that neither the Commission nor the public has reliable, up-to-date information on the construction status and/or operational parameters of these BRS systems.

Accordingly, the Commission ordered licensees of BRS Channels 1 and 2/2A to submit information, listed in the Order, after the staff issues Public Notice(s) setting forth the specific data required, deadlines, and the procedures for filing this information electronically on the Commission's Universal Licensing System (ULS), where it will be available to the public. To assist in determining the scope of the new AWS entrants' relocation obligations, the Commission ordered BRS licensees in the 2150-2160/62 MHz band to provide the required data within 60 days and 120 days of the effective date of its Order, noting that these dates would correspond to OMB approval of the information collection, i.e., PRA requirements for the ULS.

Federal Communications Commission.
Marlene H. Dortch,
Secretary.

[FR Doc. E6-7230 Filed 5-10-06; 8:45 am]

BILLING CODE 6712-01-P